DEPARTMENT OF ENERGY

Federal Energy Regulatory Commission

[Docket No. CP00-394-001]

Williams Gas Pipelines Central, Inc.; Notice of Petition To Amend

December 18, 2000.

Take notice that on December 11, 2000, Williams Gas Pipelines Central, Inc. (Williams), P.O. Box 20008, Owensboro, Kentucky 42304, filed in Docket No. CP00-394-001 a petition pursuant to Section 7(b) of the Natural Gas Act to amend its application filed June 21, 2000, for permission and approval to abandon certain pipeline facilities located in Kansas, all as more fully set forth in the application on file with the Commission and open to public inspection. This filing may be viewed on the web at http://www.ferc.fed.us/online/htm (call 202-208-2222 for assistance).

In Docket No. CP00-394-000 Williams proposed to abandon approximately 64.3 miles of the Pampa 20-inch pipeline (Line G) and appurtenant facilities located in Butler, Chase and Lyon Counties, Kansas. Williams proposed to abandon the facilities by sale for subsequent reclaim for salvage and abandonment in place. It was explained that the proposed abandonment is part of Williams' ongoing effort to eliminate old, high maintenance pipelines.

In Docket No. CP00-394-001 Williams proposes to modify its original proposal by increasing the length of pipeline to be abandoned in place to 50.2 miles and to decrease the length of pipeline to be abandoned by sale for reclaim to 14.1 miles. Williams states that of the 14.1 miles to be removed, it still plans to abandon in place segments of the pipeline located under roads and where it traverses other sensitive environmental areas such a streams and wetlands, and to abandon by removal all above-ground facilities, such as pig traps, value, etc.

It is explained that the total length of the Pampa Line to be abandoned would remain the same 64.3 miles as proposed in the original application. William states that the reason for the change is that following receipt of landowner comments and further evaluation of environmental and land use impacts, it has determined that the proposed modification would minimize these impacts while accommodating landowner preferences. Williams estimates the costs associated with the abandonment at $173,000 and estimates the sale price of the segment to be reclaimed at $256,781. Williams proposes to commence the abandonment on April 1, 2001 and estimates completion by June 30, 2001.

Any questions regarding the application should be directed to David N. Roberts, Manager, Tariffs & Regulatory Analysis, at (270) 688-6712, P.O. Box 20008, Owensboro, Kentucky 42304.

Any person desiring to be heard or to make any protestswith reference to said application should on or before January 8, 2001, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically in lieu of paper. See 18 CFR 385.2001(a)(1)(iii) and the instructions on the Commission's website at http://ferc.fed.us/efi/doorbell.htm.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Williams to appear or be represented at the hearing.

David P. Boergers,
Secretary.

[FR Doc. 00-32689 Filed 12-21-00; 8:45 am]

BILLING CODE 6717-01-M